DEPARTMENT OF COMMERCE

Bureau of the Census

Census Bureau 2020 Advisory Committee; Extension of Nominations Submission Period

AGENCY: Bureau of the Census, Department of Commerce.

ACTION: Notice of request for nominations; extension of nominations submission period.

SUMMARY: The Bureau of the Census (Census Bureau) is issuing this document to extend the nominations submission period for the Census Bureau 2020 Advisory Committee; Notice of Request for Nominations, which was published in the Federal Register on December 20, 2016. The nominations submission period, which would have ended on January 19, 2017, is now extended until February 17, 2017.

DATES: Nomination submissions on the notice of request for nominations published on December 20, 2016 (81 FR 92776) must be received by February 17, 2017.

ADDRESSES: Please submit nominations to Tara Dunlop Jackson, Branch Chief for Advisory Committees, Customer Liaison and Marketing Services Office, tara.t.dunlop@census.gov, Department of Commerce, U.S. Census Bureau, Room 8H177, 4600 Silver Hill Road, Washington, DC 20233, telephone 301-763-5222.

FOR FURTHER INFORMATION CONTACT: Tara Dunlop Jackson, Branch Chief for Advisory Committees, Customer Liaison Marketing Services Offices, U.S. Census Bureau, Room 8H177, 4600 Silver Hill Road, Washington, DC 20233, telephone (301) 763-5222 or tara.t.dunlop@census.gov. For TTY callers, please use the Federal Relay Service 1-800-877-8339.

SUPPLEMENTARY INFORMATION:

Background

The Census Bureau 2020 Advisory Committee is established in accordance with the Federal Advisory Committee Act, Title 5, United States Code, Appendix 2. For more information about the Committee, membership, and the nomination process, please see the original document on the notice of request for nominations published on December 20, 2016 (81 FR 92776).

In response to individuals and organizations who have requested more time to submit nominations of members to serve on the Census Bureau 2020 Advisory Committee, the Census Bureau has decided to extend the nominations submission period to February 17, 2017. This document announces the extension of the nominations submission period.

Dated: January 11, 2017.
John H. Thompson,
Director, Bureau of the Census.

[FR Doc. 2017-01025 Filed 1-17-17; 8:45 am]

BILLING CODE 3510-07-P